DEPARTMENT OF ENERGY

Federal Energy Regulatory Commission

Combined Notice of Filings #1

Take notice that the Commission received the following electric rate filings:

Docket Numbers: ER07-562-000.

Applicants: Trans-Allegheny Interstate Line Company.

Description: Trans-Allegheny Interstate Line Company, Revised Electronic Informational Filing of 2011 Formula Rate Annual Update.

Filed Date: 12/19/11.

Accession Number: 20111219-5138.

Comments Due: 5 p.m. ET 1/23/12.

Docket Numbers: ER10-2124-002; ER10-2125-002; ER10-2127-002; ER10-2128-002; ER10-2129-002; ER10-2130-002; ER10-2131-003; ER10-2132-002; ER10-2133-003; ER10-2134-002; ER10-2135-002; ER10-2136-002; ER10-2137-003; ER10-2138-003; ER10-2139-003; ER10-2140-003; ER10-2141-003; ER10-2764-002; ER11-3872-003; ER11-4044-002; ER11-4046-002.

Applicants: Forward Energy LLC, Sheldon Energy LLC, Invenergy Cannon Falls LLC, Spindle Hill Energy LLC, Spring Canyon Energy LLC, Grays Harbor Energy LLC, Grand Ridge Energy LLC, Willow Creek Energy LLC, Hardee Power Partners Limited, Judith Gap Energy LLC, Invenergy TN LLC, Wolverine Creek Energy LLC, Grand Ridge Energy II LLC, Grand Ridge Energy III LLC, Grand Ridge Energy IV LLC, Grand Ridge Energy V LLC, Vantage Wind Energy LLC, Beech Ridge Energy LLC, Gratiot County Wind LLC, Stony Creek Energy LLC, Gratiot County Wind II LLC.

Description: Notification of Change in Facts Under Market-Based Rate Authority of Spring Canyon Energy LLC, et. al.

Filed Date: 1/13/12.

Accession Number: 20120113-5241.

Comments Due: 5 p.m. ET 2/3/12.

Docket Numbers: ER10-2319-003; ER10-2320-003; ER10-2317-002; ER10-2322-004; ER10-2324-003; ER10-2325-002; ER10-2332-003; ER10-2326-004; ER10-2327-005; ER10-2328-003; ER10-2343-004; ER10-2331-004; ER10-2330-004; ER11-4609-002.

Applicants: J.P. Morgan Ventures Energy Corporation, Triton Power Michigan LLC, BE Allegheny LLC, BE CA LLC, BE Ironwood LLC, BE KJ LLC, BE Rayle LLC, BE Alabama LLC, BE Louisiana LLC, Cedar Brakes I LLC, Utility Contract Funding, LLC, Central Power & Lime LLC, Cedar Brakes II, LLC, J.P. Morgan Commodities Canada Corporation.

Description: Notice of Non-Material Change in Status of J.P. Morgan Ventures Energy Corporation et. al.

Filed Date: 1/13/12.

Accession Number: 20120113-5024.

Comments Due: 5 p.m. ET 2/3/12.

Docket Numbers: ER11-4396-001.

Applicants: Louisville Gas and Electric Company.

Description: Louisville Gas and Electric Company submits tariff filing per 35: 01_12_12 ITO Compliance Filing to be effective 9/1/2012.

Filed Date: 1/12/12.

Accession Number: 20120112-5129.

Comments Due: 5 p.m. ET 2/2/12.

Docket Numbers: ER12-701-001.

Applicants: New York Independent System Operator, Inc.

Description: New York Independent System Operator, Inc. submits tariff filing per 35.17(b): NYISO Amendment to 12/28/11 Filing re: Coordinated Transaction Scheduling to be effective 12/31/9998.

Filed Date: 1/13/12.

Accession Number: 20120113-5207.

Comments Due: 5 p.m. ET 2/3/12.

Docket Numbers: ER12-802-000.

Applicants: PJM Interconnection, L.L.C.

Description: PJM Interconnection, L.L.C. submits tariff filing per 35.13(a)(2)(iii): Original Service Agreement No. 3171; Queue Position W1-127 to be effective 12/13/2011.

Filed Date: 1/12/12.

Accession Number: 20120112-5156.

Comments Due: 5 p.m. ET 2/2/12.

Docket Numbers: ER12-803-000.

Applicants: Northern States Power Company, a Wisconsin corporation.

Description: Northern States Power Company, a Wisconsin corporation submits tariff filing per 35.13(a)(2)(iii: 2012-1-12_DPC E&P Agrmt NOC_314-NSPW to be effective 3/12/2012.

Filed Date: 1/12/12.

Accession Number: 20120112-5167.

Comments Due: 5 p.m. ET 2/2/12.

Docket Numbers: ER12-804-000.

Applicants: Southern California Edison Company.

Description: Southern California Edison Company submits tariff filing per 35.13(a)(2)(iii: Ltr Agmt Interim West of Devers Proj NextEra Desert Center Blythe, LLC to be effective 1/9/2012.

Filed Date: 1/13/12.

Accession Number: 20120113-5052.

Comments Due: 5 p.m. ET 2/3/12.

Docket Numbers: ER12-805-000.

Applicants: Midwest Independent Transmission System, ITC Midwest LLC.

Description: Midwest Independent Transmission System Operator, Inc. submits tariff filing per 35.13(a)(2)(iii: ITC-Nemo (1-13-12) to be effective 2/1/2012.

Filed Date: 1/13/12.

Accession Number: 20120113-5072.

Comments Due: 5 p.m. ET 2/3/12.

Docket Numbers: ER12-806-000.

Applicants: California Independent System Operator Corporation.

Description: California Independent System Operator Corporation submits tariff filing per 35.13(a)(2)(iii: 2012-01-13 CAISO's Operations and Maintenance Cost Values Amendment to be effective 4/1/2012.

Filed Date: 1/13/12.

Accession Number: 20120113-5179.

Comments Due: 5 p.m. ET 2/3/12.

Docket Numbers: ER12-807-000.

Applicants: NAEA Energy Massachusetts LLC.

Description: NAEA Energy Massachusetts LLC submits tariff filing per 35: Notice of Succession to be effective 1/13/2012.

Filed Date: 1/13/12.

Accession Number: 20120113-5198.

Comments Due: 5 p.m. ET 2/3/12.

Docket Numbers: ER12-808-000.

Applicants: NAEA Newington Energy, LLC.

Description: NAEA Newington Energy, LLC submits tariff filing per 35: Notice of Succession to be effective 1/13/2012.

Filed Date: 1/13/12.

Accession Number: 20120113-5199.

Comments Due: 5 p.m. ET 2/3/12.

Docket Numbers: ER12-809-000.

Applicants: NAEA Ocean Peaking Power, LLC.

Description: NAEA Ocean Peaking Power, LLC submits tariff filing per 35: Notice of Succession to be effective 1/13/2012.

Filed Date: 1/13/12.

Accession Number: 20120113-5200.

Comments Due: 5 p.m. ET 2/3/12.

Docket Numbers: ER12-810-000.

Applicants: NAEA Rock Springs, LLC.

Description: NAEA Rock Springs, LLC submits tariff filing per 35: Notice of Succession to be effective 1/13/2012.

Filed Date: 1/13/12.

Accession Number: 20120113-5202.

Comments Due: 5 p.m. ET 2/3/12.

Take notice that the Commission received the following land acquisition reports:

Docket Numbers: LA11-4-000.

Applicants: Order 697-C 2011 4th Quarter Site Acquisition.

Description: Land Acquisition Report of Southern Company Services, Inc.

Filed Date: 1/13/12.

Accession Number: 20120113-5251.

Comments Due: 5 p.m. ET 2/3/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2012.
Nathaniel J. Davis, Sr.,
Deputy Secretary.

[FR Doc. 2012-1282 Filed 1-23-12; 8:45 am]

BILLING CODE 6717-01-P